EQUAL EMPLOYMENT OPPORTUNITY COMMISSION

29 CFR Part 1601

706 Agencies; Georgia Commission on Equal Opportunity, North Carolina Civil Rights Division, Office of Administrative Hearings, North Dakota Department of Labor, Lee County Office of Equal Opportunity, City of Tampa Office of Human Rights, Palm Beach County Office of Equal Opportunity, Madison Equal Opportunity Commission, St. Paul Department of Human Rights

AGENCY: Equal Employment Opportunity Commission.

ACTION: Final rule.

SUMMARY: The Equal Employment Opportunity Commission amends its regulations designating certain State and local fair employment practices agencies as certified designated agencies. The designation permits the Commission to accept the findings and resolutions of State and local fair employment practices agencies in regard to most cases processed under contract without individual, case-by-case substantial weight reviews by the Commission. Publication of this amendment effectuates the designation of the following agencies as certified designated FEP agencies: Georgia Commission on Equal Opportunity; North Carolina Civil Rights Division, Office of Administrative Hearings; North Dakota Department of Labor; Lee County Office of Equal Opportunity; City of Tampa Office of Human Rights; Palm Beach County Office of Equal Opportunity; Madison Equal Opportunity Commission; St. Paul Department of Human Rights.

EFFECTIVE DATE: August 12, 2005.

FOR FURTHER INFORMATION CONTACT: Mary McIver, Equal Employment Opportunity Commission, Office of Field Programs, State and Local Programs, 1801 L Street, NW., Washington, DC 20507, Telephone (202) 663-4205.

SUPPLEMENTARY INFORMATION:

List of Subjects in 29 CFR Part 1601

Administrative practice and procedure, Equal employment opportunity, Intergovernmental relations.

Accordingly, title 29, chapter XIV, part 1601 is amended as follows:

PART 1601—PROCEDURAL REGULATIONS

1. The authority citation for part 1601 continues to read as follows:

Authority: 42 U.S.C. 2000e to 2000e-17; 42 U.S.C. 12111 to 12117.

2. Section 1601.80 is amended by adding in alphabetical order the following agencies:

§ 1601.80 Certified designated FEP agencies.

* * * * *

City of Tampa Office of Human Rights

* * * * *

Georgia Commission on Equal Opportunity

* * * * *

Lee County Office of Equal Opportunity

* * * * *

Madison Equal Opportunity Commission

* * * * *

North Carolina Civil Rights Division, Office of Administrative Hearings

North Dakota Department of Labor

* * * * *

Palm Beach County Office of Equal Opportunity

* * * * *

St. Paul Department of Human Rights

* * * * *

Signed at Washington, DC, this 1st day of August, 2005.
For the Commission.
Cari M. Dominguez,
Chair.

[FR Doc. 05-15978 Filed 8-11-05; 8:45 am]

BILLING CODE 6570-01-P